INTERNATIONAL TRADE COMMISSION

[Investigation No. 731-TA-1586 (Final)]

Sodium Nitrite From Russia

Determination

On the basis of the record ¹ developed in the subject investigation, the United States International Trade Commission (“Commission”) determines, pursuant to the Tariff Act of 1930 (“the Act”), that an industry in the United States is materially injured by reason of imports of sodium nitrite from Russia, provided for in subheading 2834.10.10 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 87 FR 55781 (September 12, 2022).

Background

The Commission instituted this investigation effective January 13, 2022, following receipt of antidumping and countervailing duty petitions filed with the Commission and Commerce by Chemtrade Chemicals US LLC, Parsippany, New Jersey. The Commission established a general schedule for the conduct of the final phase of its investigations of sodium nitrite from India and Russia following publication of a preliminary determination by Commerce that imports of sodium nitrite were subsidized by the government of Russia. Notice of the scheduling of the final phase of the Commission's investigations and of a public hearing to be held in connection therewith was given by posting copies of the notice in the Office of the Secretary, U.S. International Trade Commission, Washington, DC, and by publishing the notice in the Federal Register of April 20, 2022 (87 FR 23567). In light of the restrictions on access to the Commission building due to the COVID-19 pandemic, the Commission conducted its hearing through written testimony and video conference on June 21, 2022. All persons who requested the opportunity were permitted to participate.

The investigation schedules became staggered when Commerce did not align its countervailing duty investigation on Russia with either of the corresponding antidumping duty investigations; did not postpone the final determination of its antidumping duty investigation on Russia; and aligned its countervailing duty investigation on sodium nitrite from India with its postponed antidumping duty investigation regarding India. On August 15, 2022, the Commission issued a final affirmative determination in its countervailing duty investigation of sodium nitrite from Russia (87 FR 51141, August 19, 2022). Following publication of a final determination by Commerce that imports of sodium nitrite from Russia were being sold at LTFV within the meaning of section 735(a) of the Act (19 U.S.C. 1673d(a)), notice of the supplemental scheduling of the final phase of the Commission's antidumping duty investigation on Russia was given by posting copies of the notice in the Office of the Secretary, U.S. International Trade Commission, Washington, DC, and by publishing the notice in the Federal Register of September 23, 2022 (87 FR 58136).

The Commission made this determination pursuant to § 735(b) of the Act (19 U.S.C. 1673d(b)). It completed and filed its determination in this investigation on October 27, 2022. The views of the Commission are contained in USITC Publication 5379 (October 2022), entitled Sodium Nitrite from Russia: Investigation No. 731-TA-1586 (Final).

By order of the Commission.
Issued: October 28, 2022.
Katherine Hiner,
Acting Secretary to the Commission.

[FR Doc. 2022-23855 Filed 11-2-22; 8:45 am]

BILLING CODE 7020-02-P